DEPARTMENT OF ENERGY

Agency Information Collection Extension

AGENCY: Department of Energy.

ACTION: Submission for Office of Management and Budget (OMB) review; comment request

SUMMARY: The Department of Energy (DOE) has submitted an information collection request to the OMB for extension under the provisions of the Paperwork Reduction Act of 1995. The information collection requests a three-year extension of its 2008 Procurement Package, OMB Control Number 1910-4100. This information collection request covers information necessary to evaluate proposals and administer contracts related to management contractors managing the Department's major facilities and other contractors furnishing goods and services.

DATES: Comments regarding this collection must be received on or before May 23, 2008. If you anticipate that you will be submitting comments, but find it difficult to do so within the period of time allowed by this notice, please advise the OMB Desk Officer of your intention to make a submission as soon as possible. The OMB Desk Officer for DOE may be telephoned at 202-395-4650.

ADDRESSES: Written comments should be sent to:

DOE Desk Officer, Office of Information and Regulatory Affairs, Office of Management and Budget, New Executive Office Building, Room 10102, 735 17th Street, NW., Washington, DC 20503; and to:

U.S. Department of Energy, MA-61, Attn: Richard Langston, 1000 Independence Avenue, SW., Washington, DC 20585.

FOR FURTHER INFORMATION CONTACT: Richard Langston, Procurement Policy Analyst, at Richard.langston@hq.doe.gov or (202) 287-1339.

SUPPLEMENTARY INFORMATION: This information collection request contains: (1) OMB No. 1910-4100; (2) Information Collection Request Title: DOE 2008 Procurement Package; (3) Purpose: This information collection request covers information necessary to evaluate proposals and administer contracts related to management contractors managing the Department's major facilities and other contractors furnishing goods and services; (4) Estimated Number of Respondents: 7,539; (5) Estimated Total Burden Hours: 896,209; (6) Number of Collections: The information collection request contains 47 information and/or recordkeeping requirements. A notice and request for comment was previously published concerning this collection at 73 FR 7538 on February 8, 2008. No comments were received.

Statutory Authority: Office of Federal Procurement Policy (OFPP) Act, as amended (41 U.S.C. 405).

Issued in Washington, DC on April 17, 2008.
Edward R. Simpson,
Director, Office of Procurement and Assistance Management.

[FR Doc. E8-8768 Filed 4-22-08; 8:45 am]

BILLING CODE 6450-01-P